DEPARTMENT OF THE INTERIOR

National Park Service

[NPS-WASO-NRNHL-DTS#-31810; PPWOCRADI0, PCU00RP14.R50000]

National Register of Historic Places; Notification of Pending Nominations and Related Actions

AGENCY: National Park Service, Interior.

ACTION: Notice.

SUMMARY: The National Park Service is soliciting electronic comments on the significance of properties nominated before April 17, 2021, for listing or related actions in the National Register of Historic Places.

DATES: Comments should be submitted electronically by May 13, 2021.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before April 17, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

ARKANSAS

Phillips County

Helena Aero Tech Hangars (World War II Home Front Efforts in Arkansas, MPS) 124 Cty. Rd. 204, West Helena, MP100006577

CONNECTICUT

New Haven County

New Haven Armory, 270 Goffe St., New Haven, SG100006556

INDIANA

Fountain County

Wallace Covered Bridge, Lutheran Church Rd. over Sugar Mill Cr., Wallace vicinity, SG100006568

Cades Mill Covered Bridge, Cades Hollow Rd. over Coal Cr., Veedersburg vicinity, SG100006570

Rob Roy Covered Bridge, Covered Bridge Rd. over Big Shawnee Cr., Rob Roy vicinity, SG100006571

Knox County

Simpson Nursery Historic District, 1502, 1504, 1512 Old Wheatland Rd., Vincennes vicinity, SG100006564

La Porte County

Swedish Evangelical Lutheran Carmel Chapel and Carmel Cemetery, 5901 West 50 South, LaPorte vicinity, SG100006566

Lake County

Schrage, Henry and Caroline, House, 2006 Schrage Ave., Whiting, SG100006562

Lawrence County

Bedford Southern Indiana Railroad Passenger Depot, 1415 J St., Bedford, SG100006563

Monroe County

Milisen, Dr. Robert L. and Ellen, House, 4180 North Old IN 37, Bloomington vicinity, SG100006567

Orange County

Shindler-Stetson House, 630 East Washington St., Orleans, SG100006565

Tippecanoe County

Greenbush Cemetery, 1408 North 12th St., Lafayette, SG100006569

Wabash County

13-24 Drive-In Movie Theater, 890 North IN 13, Wabash, SG100006572

KANSAS

Shawnee County

Park Plaza Apartments (Mid-Century Modern Non-Single-Family Residential Architecture in Topeka, 1945-1975 MPS) 1275 SW Fillmore St., Topeka, MP100006579

HTK Architects Office Building (Mid-Century Modern Non-Single-Family Residential Architecture in Topeka, 1945-1975 MPS) 2900 SW MacVicar Ave., Topeka, MP100006580

MINNESOTA

Dakota County

Farmers Union Central Exchange Second Headquarters Building, 1185 Concord St. North, South St. Paul, SG100006585

Hennepin County

J.I. Case Building, 233 Park Ave., Minneapolis, SG100006558

Wayzata Section House (Railroads in Minnesota MPS) 738 Lake St. East, Wayzata, MP100006584

Calvary Baptist Church, 2608 Blaisdell Ave. South, Minneapolis, SG100006586

Otter Tail County

Red River Milling Company, 309 Stanton Ave. West, Fergus Falls, SG100006557

Rice County

Faribault Historic Commercial District (Boundary Increase) (Rice County MRA) Roughly bounded by 1st St. NW, 1st Ave. NE, 6th St. NW, and 1st Ave. NW, Faribault, BC100006583

Steele County

Pillsbury Academy Campus Historic District (Boundary Increase) 315 South Grove Ave., Owatonna, BC100006560

MISSISSIPPI

Attala County

Simmons Farmhouse, 9968 MS 429, Sallis vicinity, SG100006554

Jefferson County

Truly House, 93 Gilchrist St., Fayette, SG100006555

SOUTH CAROLINA

Charleston County

Simmons, James Stocker, House, 122 Rutledge Ave., Charleston, SG100006553

TEXAS

Dallas County

Wedgwood Apartments, 2511 Wedglea Dr., Dallas, SG100006549

VIRGINIA

Amherst County

Amherst Baptist Church, 190-194 2nd St., Amherst, SG100006575

Patrick County

Stuart Downtown Historic District, Patrick Ave., Commerce, and South Main Sts., Stuart, SG100006574

Shenandoah County

Burner-Gearing Farm, 2497 Moose Rd., Woodstock vicinity, SG100006573

An owner objection has been received for the following resource:

MINNESOTA

Ramsey County

St. Joseph's Hospital Nurses Home, 438 Dorothy Day Pl., St. Paul, SG100006581

A request for removal has been made for the following resource:

INDIANA

Marshall County

Bourbon Community Building-Gymnasium (Indiana's Public Common and High Schools MPS) 800 North Harris St., Bourbon, OT15000888

Additional documentation has been received for the following resources:

MINNESOTA

Rice County

Faribault Historic Commercial District (Additional Documentation) (Rice County MRA) Central Ave, 2nd and 3rd Sts., Faribault, AD82003011

Steele County

Pillsbury Academy Campus Historic District (Additional Documentation) Roughly Academy, Grove, and Main Sts., Owatonna, AD86003680

WEST VIRGINIA

Greenbrier County

Lewisburg Historic District (Additional Documentation) Irregular pattern along U.S. 60 and U.S. 219, Lewisburg, AD78002795

Authority: Section 60.13 of 36 CFR part 60.

Dated: April 20, 2021.
Sherry A. Frear,
Chief, National Register of Historic Places/National Historic Landmarks Program.

[FR Doc. 2021-08870 Filed 4-27-21; 8:45 am]

BILLING CODE 4312-52-P